DEPARTMENT OF VETERANS AFFAIRS

[OMB Control No. 2900-New (Post-9/11 GI Bill Longitudinal Study Survey)]

Agency Information (Post-9/11 GI Bill Education Longitudinal Study Survey) Activity Under OMB Review

AGENCY: Veterans Benefits Administration, Department of Veterans Affairs.

ACTION: Notice.

SUMMARY: In compliance with the Paperwork Reduction Act (PRA) of 1995 (44 U.S.C. 3501-21), this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before August 1, 2012.

ADDRESSES: Submit written comments on the collection of information through www.Regulations.gov; or to VA's OMB Desk Officer, OMB Human Resources and Housing Branch, New Executive Office Building, Room 10235, Washington, DC 20503 (202) 395-7316. Please refer to “OMB Control No. 2900-New (Post-9/11 GI Bill Longitudinal Study Survey) in any correspondence

For Further Information or a Copy of the Submission Contact: Denise McLamb, Enterprise Records Service (005R1B), Department of Veterans Affairs, 810 Vermont Avenue NW, Washington, DC 20420, (202) 632-7479, FAX (202) 632-7583 or email: denise.mclamb@ va.gov. Please refer to “OMB Control 2900-New (Post-9/11 GI Bill Longitudinal Study Survey)”.

SUPPLEMENTARY INFORMATION: Title: Post-9/11 GI Bill Longitudinal Study Survey.

OMB Control Number: 2900-New Post-9/11 GI Bill Longitudinal Study Survey.

Type of Review: New data collection.

Abstract: VBA will collect survey data on individuals who began participating in the Post 9/11—GI Bill Chapter 33 program during fiscal years 2010, 2012, and 2014. VBA will analyze the survey data to determine the long-term positive outcomes of individuals participating in VBA's Chapter 33 program. The purpose of this study is to assess the effectiveness of the Chapter 33 program, so that VA can find ways to improve the program and increase the educational support the agency provides to Veterans and their eligible dependents.

An agency may not conduct or sponsor, and a person is not required to respond to a collection of information unless it displays a currently valid OMB control number. The Federal Register Notice with a 60-day comment period soliciting comments on this collection of information was published on April 12, 2012, at pages 22068-22069.

Affected Public: Individuals and Households

Estimated Annual Burden: 2,333 hours.

Estimated Average Burden Per Respondent: 20 minutes.

Frequency of Response: Annually.

Estimated Number of Respondents: 7,000.

Dated: June 27, 2012.
By direction of the Secretary.
Denise McLamb,
Program Analyst, Enterprise Records Service.

[FR Doc. 2012-16105 Filed 6-29-12; 8:45 am]

BILLING CODE 8320-01-P